DEPARTMENT OF STATE

[Public Notice 5750]

30-Day Notice of Proposed Information Collection: Form DS-4048, Projected Sales of Major Weapons in Support of Section 25(a)(1) of the Arms Export Control Act; OMB Control Number 1405-0156

ACTION: Notice of request for public comment and submission to OMB of proposed collection of information.

SUMMARY: The Department of State has submitted the following information collection request to the Office of Management and Budget (OMB) for approval in accordance with the Paperwork Reduction Act of 1995.

• Title of Information Collection: Projected Sales of Major Weapons in Support of Section 25(a)(1) of the Arms Export Control Act.

• OMB Control Number: 1405-0156.

• Type of Request: Extension of a Currently Approved Collection.

• Originating Office: Bureau of Political-Military Affairs, Directorate of Defense Trade Controls, (PM/DDTC).

• Form Number: DS-4048.

• Respondents: Business organizations.

• Estimated Number of Respondents: 20 (total).

• Estimated Number of Responses: 20 (per year).

• Average Hours Per Response: 60 hours.

• Total Estimated Burden: 1200 hours (per year).

• Frequency: Once a year.

• Obligation to Respond: Voluntary.

DATES: Submit comments to the Office of Management and Budget (OMB) for up to 30 days from April 11, 2007.

ADDRESSES: Direct comments and questions to Katherine Astrich, the Department of State Desk Officer in the Office of Information and Regulatory Affairs at the Office of Management and Budget (OMB), who may be reached at 202-395-4718. You may submit comments by any of the following methods:

• E-mail: kastricht@omb.eop.gov. You must include the DS form number, information collection title, and OMB control number in the subject line of your message.

• Mail (paper, disk, or CD-ROM submissions): Office of Information and Regulatory Affairs, Office of Management and Budget, 725 17th Street, NW., Washington, DC 20503.

• Fax: 202-395-6974

FOR FURTHER INFORMATION CONTACT: You may obtain copies of the proposed information collection and supporting documents from Patricia C. Slygh, PM/DDTC, SA-1, 12th Floor, Directorate of Defense Trade Controls, Bureau of Political-Military Affairs, U.S. Department of State, Washington, DC 20522-0112, who may be reached on (202) 663-2700 and E-mail: Slyghpc@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection: The information will be used to prepare an annual report to Congress regarding arms sales proposals covering all Foreign Military Sales (FMS) and licensed commercial exports of major weapons or weapons-related defense equipment for $7,000,000 or more, or of any other weapons or weapons-related defense equipment for $25,000,000 or more, which are considered eligible for approval during the current calendar year in accordance with section 25 of the Arms Export Control Act (AECA) [22 U.S.C. 2765].

Methodology: Respondents may submit the information by e-mail using DS-4048, an Excel electronic spreadsheet, or by letter using the fax or postal mail.

Dated: March 23, 2007.
Gregory M. Suchan,
Deputy Assistant Secretary for Defense Trade Controls, Bureau of Political-Military Affairs, Department of State.

[FR Doc. E7-6874 Filed 4-10-07; 8:45 am]

BILLING CODE 4710-25-P